COMMODITY FUTURES TRADING COMMISSION

Agency Information Collection Activities Under OMB Review

AGENCY: Commodity Futures Trading Commission.

ACTION: Notice of Intent to Renew; Correction.

SUMMARY: This document corrects a reference in the text of the 30-day Notice of Intent to Renew an agency collection of information, Regulations Governing Bankruptcies of Commodity Brokers (OMB Control No. 3038-0021). The notice that is being corrected was published in the Federal Register of March 5, 2012, 77 FR 13101.

FOR FURTHER INFORMATION CONTACT: Martin B. White, Office of the General Counsel, Commodity Futures Trading Commission, 1155 21st Street NW., Washington, DC 20581, (202) 418-5129; Fax: (202) 418-5567; email: mwhite@cftc.gov.

Correction

In the Notice of Intent to Renew, beginning on page 13101 in the issue of March 5, 2012, make the following correction. On page 13101 in the middle column in the third paragraph under SUPPLEMENTARY INFORMATION replace the sentence “The Federal Register notice with a 60-day comment period soliciting comments on this collection of information was published on December 29, 2012 (73 FR 81916).” with the sentence “The Federal Register notice with a 60-day comment period soliciting comments on this collection of information was published on December 29, 2011 (76 FR 81916).”

Dated: March 6, 2012.
David A. Stawick,
Secretary of the Commission.

[FR Doc. 2012-5807 Filed 3-9-12; 8:45 am]

BILLING CODE P